DEPARTMENT OF THE INTERIOR

Bureau of Indian Affairs

Renewal of Agency Information Collection for the Bureau of Indian Education Adult Education Program; Comment Request

AGENCY: Bureau of Indian Affairs, Interior.

ACTION: Notice of Request for Comments.

SUMMARY: As required by the Paperwork Reduction Act, the Bureau of Education (BIE) is requesting comments on renewal of OMB approval to collect information for the BIE Adult Education Program. The information collection is currently authorized by OMB Control number 1076-0120, which expires December 31, 2011.

DATES: Submit comments on or before October 24, 2011.

ADDRESSES: You may submit comments on the information collection to Brandi Sweet, U.S. Department of the Interior, Bureau of Indian Education, 1849 C Street, NW., Washington, DC 20240; e-mail: Brandi.Sweet@bie.edu.

FOR FURTHER INFORMATION CONTACT: Brandi Sweet, U.S. Department of the Interior, Bureau of Indian Education; telephone (202) 208-5504.

SUPPLEMENTARY INFORMATION:

I. Abstract

Bureau of Indian Education (BIE) is seeking renewal of the approval for the information collection conducted under 25 CFR part 46, subpart C, Program Requirements of the Adult Education Program, to determine eligibility of Indian applicants and to prioritize programs. Approval for this collection expires on December 31, 2011. This information includes an application form. No changes are being made to the form or to the approved burden hours for this information collection.

II. Request for Comments

BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, e-mail address or other personally identifiable information, be advised that your entire comment—including your personally identifiable information—may be made public at any time. While you may request that we withhold your personally identifiable information, we cannot guarantee that we will be able to do so.

III. Data

OMB Control Number: 1076-0120.

Title: Bureau of Indian Affairs Adult Education Program Annual Report Form.

Brief Description of Collection: Submission of this information allows BIA to determine applicant eligibility of Indian applicants based upon the criteria referenced in 25 CFR 46, Subpart C (Program Requirements of the Adult Education Program). BIE annually collects information to determine eligibility of Indian applicants and to prioritize programs. The information helps manage the resources available to provide education opportunities for adult Indians and Alaska Natives to complete high school graduation requirements and gain new skills and knowledge for self-enhancement.

Type of Review: Extension without change of a currently approved collection.

Respondents: Individuals (Tribal Adult Education Program Administrators).

Number of Respondents: 70 per year, on average.

Total Number of Responses: 70 per year, on average.

Frequency of Response: Once per year.

Estimated Time per Response: 4 hours.

Estimated Total Annual Burden: 280 hrs.

Dated: August 17, 2011.
Alvin Foster,
Acting Chief Information Officer—Indian Affairs.

[FR Doc. 2011-21549 Filed 8-22-11; 8:45 am]

BILLING CODE 4310-6W-P